ENVIRONMENTAL PROTECTION AGENCY

[FRL-8474-1]

Acid Rain Program: Notice of Annual Adjustment Factors for Excess Emission Penalty

AGENCY: Environmental Protection Agency (EPA).

ACTION: Notice of annual adjustment factors for excess emissions penalty.

SUMMARY: Under the Acid Rain Program, affected units must hold enough allowances to cover their sulfur dioxide emissions and meet an emission limit for nitrogen oxides. Under 40 CFR 77.6, units that do not meet these requirements must pay a penalty without demand to the Administrator based on the number of excess tons emitted times $2000 as adjusted by an annual adjustment factor that must be published in the Federal Register.

The annual adjustment factor for adjusting the penalty for excess emissions of sulfur dioxide and nitrogen oxides under 40 CFR part 77 for compliance year 2007 is 1.6364. This value is derived using the Consumer Price Index (``CPI'') for 1990 and 2007 (as defined at 40 CFR part 72, the 2007 CPI is based on the August 2006 CPI for all urban consumers), and corresponds to a penalty of $3273 per excess ton of sulfur dioxide or nitrogen oxides emitted.

The annual adjustment factor for adjusting the penalty for excess emissions of sulfur dioxide and nitrogen oxides under 40 CFR part 77 for compliance year 2008 is 1.6687. This value is derived using the Consumer Price Index (``CPI'') for 1990 and 2008 (as defined at 40 CFR part 72, the 2008 CPI is based on the August 2007 CPI for all urban consumers), and corresponds to a penalty of $3337 per excess ton of sulfur dioxide or nitrogen oxides emitted.

FOR FURTHER INFORMATION CONTACT: Robert Miller, Clean Air Markets Division (6204J), U.S. Environmental Protection Agency, 1200 Pennsylvania Ave., NW., Washington, DC 20460 at (202) 343-9077 or miller.robertl@epa.gov.

Dated: September 20, 2007.
Larry F. Kertcher,
Acting Director, Clean Air Markets Division, Office of Atmospheric Programs, Office of Air and Radiation.

[FR Doc. E7-19142 Filed 9-26-07; 8:45 am]

BILLING CODE 6560-50-P